DEPARTMENT OF HOMELAND SECURITY

Senior Executive Service Performance Review Board

AGENCY: Office of the Secretary, Department of Homeland Security.

ACTION: Notice.

SUMMARY: This notice announces the appointment of the members of the Senior Executive Service (SES) Performance Review Boards (PRBs) for the Department of Homeland Security (DHS). The purpose of the PRBs is to review and make recommendations concerning performance appraisals, ratings, performance awards, pay adjustments, and other appropriate personnel actions for incumbents of SES, Senior Level (SL), and Scientific and Professional (ST) positions of the Department.

DATES: This Notice is effective as of October 16, 2020.

FOR FURTHER INFORMATION CONTACT: Stephen McDermid, Office of the Chief Human Capital Officer, stephen.mcdermid@hq.dhs.gov, or by telephone (202) 754-0561.

SUPPLEMENTARY INFORMATION: Each Federal agency is required to establish one or more performance review boards to make recommendations, as necessary, regarding the performance of senior executives within the agency (5 U.S. Code 4314(c) and 5 CFR 430.311). This notice announces the appointment of the members of the PRB for DHS. The purpose of the PRB is to review and make recommendations concerning proposed performance appraisals, ratings, performance awards, and pay adjustments, and other appropriate personnel actions for incumbents of SES, SL, and ST positions within DHS.

The Board shall consist of at least three members. In the case of an appraisal of a career appointee, more than half of the members shall consist of career appointees. Composition of the specific PRBs will be determined on an ad hoc basis from among the individuals listed below:

List of Names (Alphabetical Order)

Adamcik, Carol

Aguilar, Max

Alfonso-Royals, Angelica

Allen, Matthew C.

Allende, Pedro

Alles, Randolph D.

Ammons, Nicholas

Anderson, Rose

Anderson, Sandra D.

Archambeault, Gregory J.

Arratia, Juan

Arvelo, Ivan J.

Asher, Nathalie R.

Awni, Muhammad H.

Bailey, Angela S.

Baker, Jeremy D.

Baker, Paul E.

Banister, Diana

Baran, Kathy A.

Baroukh, Nader

Barrera, Staci A.

Barrett, Lawrence R.

Barrow, William

Beagles, James M.

Bean, Bridget E.

Benner, Derek N.

Berg, Peter B.

Berger, Katrina W.

Bhagowalia, Sanjeev

Bhirud, Ketan

Bible, Daniel A.

Blackwell, Juliana J.

Blessey, Caroline

Bobich, Jeffrey M.

Bonner, Bryan

Borgen, Michael R.

Bowes, Lee F.

Boyd, John

Boyd, Valerie

Boyer, Stephen A.

Bradshaw, Patricia S.

Brekke, Ian

Brewer, Julie S.

Bright, Andrea J.

Brito, Roberto

Brown, Scott A.

Browne, Rene

Brundage, William

Bryan, Michelle C.

Bryan, William N.

Bryson, Tony

Brzozowski, Christa M.

Bucholtz, Kathleen

Bullock, Edna

Bunker, Michael D.

Burgess, Kenneth

Burns, Robert P.

Bush, Thomas L.

Bush, William B.

Butt, Mark

Cagen, Steven W.

Caggiano, Marshall

Caine, Jeffrey

Calkins, Aaron L.

Cameron, Michael

Campagnolo, Donna P.

Campo, Brian

Campudoni, Luis A.

Caneva, Duane

Canty, Rachel E.

Cappello, Elizabeth A.

Carpio, Philip

Carraway, Melvin J.

Castro, Raul M.

Chaleki, Thomas D.

Chau, Anna

Cheatle, Kimberly A.

Cheng, Wen-Ting

Chip, William W.

Christian, Bryan

Ciccone, Christine

Clark, Kenneth N.

Cleary Stannard, Jennifer S.

Clift, William

Cline, Richard K.

Cloe, David

Collins, James

Conklin, Jeffery A.

Cormier, Tracy J.

Coronado, Luis

Correa, Soraya

Corsano, Anne

Cotter, Daniel

Courey, Marc

Courtney, Paul

Cox, Adam

Cox, Debra S.

Crandall, Kristine R.

Cribbs, Carol

Cronen, Christopher M.

Cross, Catherine C.

Crumpacker, Jim H.

Cuccinelli, Kenneth T.

Curda, Susan M.

Dainton, Albert J.

D'Ambrosio, Michael R.

Dargan, John L.

Davidson, Andrew

Davidson, Michael J.

Davis, Michael P.

Dawson, Inga I.

Dawson, Mark B.

Decker, Thomas R.

Dedvukaj, Mirash

Delaney, Laura

Dembling, Ross

DeNayer, Larry C.

Denton, David L.

DeQuattro, Pat

DeStefano, Ernest

Di Pietro, Joseph R.

DiFalco, Frank J.

Dimoff, Lowell H.

Dobitsch, Stephanie M.

Dolan, Mark E.

Doran, Thomas J.

Dorey, David

Dornburg, Erica

Dorow, Brian

Dougherty, Michael

Dougherty, Thomas E.

Douglas, David

Dragani, Nancy J.

Drumm, Robert

Dunbar, Susan

Duquette, Amanda K.

Ederheimer, Joshua A.

Edgar, Troy D.

Edlow, Joseph

Edwards, Benjamin R.

Edwards, Eric L.

Eisert, John

Eldredge, Deborah

Emrich, Matthew D.

Erichs, Alysa D.

Erickson, Scott

Evans, Karen

Evetts, Mark V.

Falk, Scott

Fallon, William T.

Feeley, Thomas E.

Fenton, Jennifer M.

Filipponi, Karen B.

Fischer, John W.

Fishman, George

Fitzhugh, Peter C.

Fitzmaurice, Stacey D.

Flores Lund, Simona L.

Flory, Gillian

Folden, Shane M.

Francis, Steve K.

Frazier, Denise M.

Frazier, Sterling T.

Fujimura, Paul

Gabbrielli, Tina W.

Gantt, Kenneth D.

Gersten, David

Gibbons, James M.

Glabe, Scott

Goad, Robert

Gountanis, John

Grable, Samuel D.

Granger, Christopher

Graviss, Matthew

Grazzini, Christopher

Groom, Molly

Gunter, Brett A.

Guzman, Nicole G.

Hall, Daniel

Hammersley, Bonnie M.

Hampton, Stephanie L.

Hanna, Matthew L.

Harris, Melvin

Harris, Steven

Harvey, Melanie K.

Hatch, Peter

Havranek, John

Hayes, Bradley

Heinz, Todd W.

Hess, David A.

Hickey, Gary

Higgins, Jennifer B.

Highsmith, AnnMarie

Hill, John

Hochman, Kathleen

Holtermann, Keith

Holzer, James

Horton, Michael G.

Houghton, Timothy

Houlton, Tyler

Howard, Tammy

Howard, Jr., Percy L.

Huang, Paul P.

Hughes, Clifford T.

Huse, Thomas F.

Hutchison, Steven J.

Ileto, Carlene

Jackson, Arnold D.

Jacksta, Linda L.

James, Michele

Jansson, Scott W.

Jenkins, Donna

Jennings, David W.

Jeronimo, Jose M.

Johnson, James V.

Johnson, Jo Linda

Johnson, Tae D.

Jones, Allen

Kaplan, Philip

Kasper, Joseph

Kaufman, Steven

Kelly, Kevin M.

Kendall, Sarah

Kerner, Francine

Kim, Ted

King, Matthew H.

King, Tatum S.

Kirchner, Julie

Klopp, Jacalynne B.

Kolbe, Kathryn

Koncar, Steven

Kopel, Richard S.

Koumans, Marnix R.

Kozanas, Constantina

Kramar, John W.

Kronisch, Matthew

Kuepper, Andrew

Kuhn, Karen

Lafferty, John L.

LaJoye, Darby R.

Lambeth, John

Lang, Thresa

Lanum, Scott F.

Laurance, Stephen A.

Law, Robert

Lechleitner, Patrick J.

Lee, Kimya

Letowt, Philip J.

Lew, Kimberly D.

Loiacono, Adam V.

Lucero, Enrique M.

Lundgren, Karen

Lynch, Jeffrey D.

Lynch, Steven M.

Lyon, Shonnie R.

Magrino, Christopher

Maher, Joseph

Mapar, Jalal

Marcott, Stacy

Marin, David A.

Martin, Joseph F.

McCament, James W.

McComb, Richard

McCullar, Shannon

McDermott, Thomas

McDonald, Christina

McElhaney, William S.

McElwain, Patrick J.

McLane, Jo Ann

McMullen, Robert

Meckley, Tammy

Medina, Yvonne R.

Mehringer, Holly C.

Michael, Brian A.

Miles, Jere T.

Miles, John D.

Miller, Loren

Mina, Peter E.

Mitchell, Kathryn

Mizelle, Chad

Moman, Christopher C.

Moncarz, Benjamin D.

Moses, Patrick D.

Moss, Rita

Mulligan, George D.

Murphy, Brian J.

Murray, James M.

Muzyka, Carolyn L.

Nally, Kevin J.

Nation, Patricia

Neumeister, James

Newman, Robert B.

Newsome III, Leonza

Nolan, Connie L.

Nunan, Joanna M.

Ondocin, Michael A.

Ortiz, Mario

Ortiz, Raul E.

Oshinnaiye, Yemi

Otero, Carin M.

Ow, Alanna

Padilla, Kenneth

Palmer, David

Paramore, Faron K.

Paschall, Robert D.

Patel, Kalpesh A.

Patterson, Leonard E.

Perazzo, Stephen F.

Perez, Nelson

Perryman, Janet

Pham, Tony

Piccone, Colleen

Pietropaoli, Lori

Pineiro, Marlen

Podonsky, Glenn S.

Pohlman, Teresa R.

Porto, Victoria

Price, Corey A.

Prince, David A.

Propis, Ryan J.

Prosnitz, Susan

Punteney, James

Raymond, John J.

Rehberg, Sarah

Renaud, Daniel A.

Renaud, Tracy L.

Rexrode, Kathryn

Richardson, David

Richardson, Gregory A.

Rinehart, Brett

Riordan, Denis

Robbins, Timothy S.

Robinson, Terri

Rodi III, Louis A.

Rodriguez, Waldemar

Roessler, John

Rogers, Debra A.

Roncone, Stephen A.

Rosenberg, Ron M.

Rosenblum, Marc R.

Rubino, Jaclyn

Ruppel, Joanna

Rynes, Joel C.

Sabatino, Diane J.

Sahakian, Diane V.

Salazar, Rebekah A.

Salazar, Ronald M.

Saltalamachea, Michael

Salvano-Dunn, Dana

Scardaville, Michael

Scott, Kika

Selby, Cara M.

Sellers, Frederick E.

Sevier, Adrian

Seymour, Donna K.

Shaw, David C.

Shearer, Ruth C.

Short, Cherie

Short, Victoria D.

Sloan, Terry

Smislova, Melissa

Smith, Frederick

Smith, Stewart D.

Sohn, Eunice

Spero, Adrienne

Spero, James

Spivey, Beth

Spradlin, Ryan L.

Staton, Jack P.

Stephens, Celisa M.

Stiefel, Nathaniel I.

Stough, Michael S.

Sulc, Brian

Sutherland, Dan

Swain, Donald R.

Swartz, Neal

Sykes, Gwendolyn

Taylor, Clothilda

Taylor, Robin M.

Teeple, Brian

Teitelbaum, Andrew

Thompson, John E.

Thompson, Kirt

Tomney, Christopher J.

Toris, Randolph B.

Travis, Matthew

Ulrich II, Dennis A.

Valverde, Michael

Van Houten, Ann

Vande Beek, Dirk

Venture, Veronica

Villanueva, Raymond

Wade, David S.

Wales, Brandon

Wallen, Steven

Walton, Kimberly H.

Wasowicz, John

Watkins, Tracey

Watson, Andre R.

Wawro, Joseph D.

Wells, John A.

Whalen, Mary Kate

Wheaton, Kelly

Whitehouse, Joshua

Whittenburg, Cynthia F.

Wiese, Eric

Willoughby, Melika

Wolf, Chad F.

Wolfe, Herbert

Woltornist, Daniel

Wong, Ricardo A.

Wong, Sharon M.

Wright, Christopher J.

Yarwood, Susan A.

Zemek, Alex

Zuchowski, Laura B.

Dated: October 8, 2020.
Greg Ruocco,
Director, Executive Resources Policy, Office of the Chief Human Capital Officer.

[FR Doc. 2020-22923 Filed 10-15-20; 8:45 am]

BILLING CODE 9112-FC-P